SOCIAL SECURITY ADMINISTRATION

20 CFR Part 404

[Regulation No. 4]

RIN 0960-AD67

Technical Amendments To Change Cross-References

AGENCY: Social Security Administration.

ACTION: Final rule; correcting amendments.

SUMMARY: This document corrects two cross-references in the final rules we published in the Federal Register on November 15, 2004 (69 FR 67017). These final rules revised the criteria in the Listing of Impairments (the listings) that we use to evaluate claims involving malignant neoplastic diseases.

EFFECTIVE DATE: Effective on March 25, 2005.

FOR FURTHER INFORMATION CONTACT: Suzanne DiMarino, Social Insurance Specialist, 6401 Security Boulevard, Baltimore, MD 21235-6401. Call (410) 965-1769 or TTY 1-800-325-0778 for information about these correcting amendments. For information on eligibility or filing for benefits, call our national toll-free number 1-(800) 772-1213 or TTY 1-(800) 325-0778. You may also contact Social Security Online at http://www.socialsecurity.gov/.

SUPPLEMENTARY INFORMATION: We are making two corrections to listing 13.00 in appendix 1 of subpart P of part 404 of our regulations that was published in the Federal Register on November 15, 2004 (69 FR 67017). The first correction revises the cross-reference in the last sentence of listing 13.00K1b. The second correction revises the cross-references in the heading of listing 13.02.

(Catalog of Federal Domestic Assistance Programs Nos. 96.001, Social Security—Disability Insurance; 96.002, Social Security—Retirement Insurance; 96.004, Social Security—Survivors Insurance)

List of Subjects in 20 CFR Part 404

Administrative practice and procedure, Blind, Disability benefits, Old-Age, Survivors and Disability Insurance, Reporting and recordkeeping requirements, Social Security.

Dated: March 21, 2005.
Martin Sussman,
Regulations Officer.

For the reasons set out in the preamble, subpart P of part 404 of chapter III of title 20 of the Code of Federal Regulations is corrected by making the following correcting amendments:

PART 404—FEDERAL OLD-AGE, SURVIVORS AND DISABILITY INSURANCE (1950-)

Subpart P—[Amended]

1. The authority citation for subpart P continues to read as follows:

Authority: Secs. 202, 205(a), (b), and (d)-(h), 216(i), 221(a) and (i), 222(c), 223, 225, and 702(a)(5) of the Social Security Act (42 U.S.C. 402, 405(a), (b), and (d)-(h), 416(i), 421(a) and (i), 422(c), 423, 425, and 902(a)(5)); sec. 211(b), Pub. L. 104-193, 110 Stat. 2105, 2189.

Appendix 1 to Subpart P of Part 404—[Amended]

2. Amend Appendix 1 to subpart P as follows:

a. In Listing 13.00K1b, revise the reference “13.55A2a” in the last sentence to read “13.05A2.”

b. In the heading of Listing 13.02, revise the references to “13.06” and “13.07” to read “13.08” and “13.09,” respectively.

[FR Doc. 05-5921 Filed 3-24-05; 8:45 am]

BILLING CODE 4191-02-P